DEPARTMENT OF COMMERCE

International Trade Administration

[A-570-112]

Certain Collated Steel Staples From the People's Republic of China: Preliminary Results of the Antidumping Duty Administrative Review and Preliminary Determination of No Shipments; 2020-2021

AGENCY: Enforcement and Compliance, International Trade Administration, Department of Commerce.

SUMMARY: The U.S. Department of Commerce (Commerce) preliminarily determines that Tianjin Hweschun Fasteners Manufacturing Co., Ltd. (Tianjin Hweschun) and Zhejiang Best Nail Industrial Co., Ltd./Shaoxing Bohui Import & Export Co., Ltd. (Best Nail/Shaoxing Bohui) did not make sales of subject merchandise at less than normal value (NV), and that one company had no shipments of subject merchandise during the period of review (POR) January 8, 2020, through June 30, 2021. We invite interested parties to comment on these preliminary results.

DATES: Applicable August 8, 2022.

FOR FURTHER INFORMATION CONTACT: Brian Smith or Max Goldman, AD/CVD Operations, Office VIII, Enforcement and Compliance, International Trade Administration, U.S. Department of Commerce, 1401 Constitution Avenue NW, Washington, DC 20230; telephone: (202) 482-1766 or (202) 482-0224, respectively.

SUPPLEMENTARY INFORMATION:

Background

Commerce is conducting an administrative review of the antidumping duty order on certain collated steel staples from the People's Republic of China (China).¹ In addition to the two mandatory respondents, Tianjin Hweschun and Best Nail/Shaoxing Bohui,² this review also covers China Staple (Tianjin) Co., Ltd. (China Staple), Shanghai Yueda Nails Co., Ltd. (Shanghai Yueda), Shijiazhuang Shuangming Trade Co., Ltd. (Shijiazhuang Shuangming), Tianjin Jinyifeng Hardware Co., Ltd. (Tianjin Jinyifeng), and Unicorn Fasteners Co., Ltd. (Unicorn).³

¹ See Initiation of Antidumping and Countervailing Duty Administrative Reviews, 86 FR 50034 (September 7, 2021) (Initiation Notice).

² See Memorandum, “Antidumping Duty Administrative Review of Certain Collated Steel Staples from the People's Republic of China: Respondent Selection,” dated November 9, 2021. We are preliminarily treating Best Nail and Shaoxing Bohui as a collapsed entity for the period beginning December 25, 2020, and through the remainder of the POR, for purposes of this administrative review. See Memorandum, “Antidumping Duty Administrative Review of Certain Collated Steel Staples from the People's Republic of China: Preliminary Determination of Affiliation and Single Entity Determination Memorandum,” dated March 23, 2022, for further discussion.

³ Id., 86 FR 50043. The Initiation Notice lists Unicom Fasteners Co., Ltd. but the correct name for this company is Unicorn Fasteners Co., Ltd. (Unicorn Fasteners). See also Initiation of Antidumping and Countervailing Duty Administrative Reviews, 86 FR 61121 (November 5, 2021) (correcting Unicorn Fastener's company name).

For events that occurred since the publication of the Initiation Notice and the analysis behind our preliminary results herein, see the Preliminary Decision Memorandum.⁴ The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx. A list of topics discussed in the Preliminary Decision Memorandum is included in the appendix to this notice.

⁴ See Memorandum, “Decision Memorandum for the Preliminary Results of Antidumping Duty Administrative Review: Certain Collated Steel Staples from the People's Republic of China; 2020-2021,” dated concurrently with, and hereby adopted by, this notice (Preliminary Decision Memorandum).

Scope of the Order ⁵

⁵ See Certain Collated Steel Staples from the People's Republic of China: Antidumping Duty Order, 85 FR 43815 (July 20, 2020) (Order).

The products covered by the Order are certain collated steel staples from China. For a complete description of the scope of the Order, see the Preliminary Decision Memorandum.

Preliminary Determination of No Shipments

Based on an analysis of information from U.S. Customs and Border Protection (CBP), the no shipment certification, and other record information, we preliminarily determine that Unicorn had no shipments of subject merchandise during the POR. Consistent with our practice in non-market economy (NME) cases, we are not rescinding this review with respect to Unicorn but, rather, we intend to complete the review and issue appropriate instructions to CBP based on the final results of the review.⁶

⁶ See Non-Market Economy Antidumping Proceedings: Assessment of Antidumping Duties, 76 FR 65694, 65694-95 (October 24, 2011) (NME AD Assessment); see also the “Assessment Rates” section, below.

Separate Rates

We preliminarily determine that, in addition to Tianjin Hweschun and Best Nail/Shaoxing Bohai, one not individually-examined company, Tianjin Jinyifeng, is eligible for a separate rate in this administrative review.⁷ The Tariff Act of 1930, as amended (the Act), and Commerce's regulations do not address the establishment of a separate rate to be applied to companies not selected for individual examination when Commerce limits its examination in an administrative review pursuant to section 777A(c)(2) of the Act. Generally, Commerce looks to section 735(c)(5) of the Act, which provides instructions for calculating the all-others rate in an investigation, for guidance when calculating the rate for separate-rate respondents which Commerce did not examine individually in an administrative review. For the preliminary results of this review, Commerce has determined the estimated dumping margins for Tianjin Hweschun and Best Nail/Shaoxing Bohai are both zero.⁸ For the reasons explained in the Preliminary Decision Memorandum, we are assigning this rate to the non-examined respondent, Tianjin Jinyifeng, which qualifies for a separate rate in this review.

⁷ See Preliminary Decision Memorandum at the “Separate Rate Determinations” section for more details.

⁸ See Memoranda, “Preliminary Results Margin Calculation for Tianjin Hweschun Fasteners Manufacturing Co., Ltd.” and “Preliminary Results Margin Calculation for Zhejiang Best Nail Industrial Co., Ltd./Shaoxing Bohui Import & Export Co., Ltd.,” both dated concurrently with this notice.

The China-Wide Entity

Commerce's policy regarding conditional review of the China-wide entity applies to this administrative review.⁹ Under this policy, the China-wide entity will not be under review unless a party specifically requests, or Commerce self-initiates, a review of the entity. Because no party requested a review of the China-wide entity, the entity is not under review, and the entity's rate (i.e., 112.01 percent) ¹⁰ is not subject to change. See the Preliminary Decision Memorandum for further discussion.

⁹ See Antidumping Proceedings: Announcement of Change in Department Practice for Respondent Selection in Antidumping Duty Proceedings and Conditional Review of the Nonmarket Economy Entity in NME Antidumping Duty Proceedings, 78 FR 65963 (November 4, 2013).

¹⁰ See Order, 85 FR at 43816.

Aside from Unicorn for which we preliminarily find no shipments, Commerce considers all other companies for which a review was requested and did not demonstrate separate rate eligibility to be part of the China-wide entity.¹¹ For the preliminary results of this review, we consider three companies to be part of the China-wide entity: China Staple, Shanghai Yueda, and Shijiazhuang Shuangming.

¹¹ See Initiation Notice (“All firms listed below that wish to qualify for separate rate status in the administrative reviews involving NME countries must complete, as appropriate, either a separate rate application or certification, as described below.”).

Methodology

We are conducting this administrative review in accordance with section 751(a)(1)(B) of the Act and 19 CFR 351.213. Commerce has calculated export prices in accordance with section 772(a) of the Act and constructed export prices in accordance with section 772(b) of the Act. Because China is an NME within the meaning of section 771(18) of the Act, we calculated NV in accordance with section 773(c) of the Act.

Preliminary Results of Review

We preliminarily determine that the following weighted-average dumping margins exist for the POR January 8, 2020, through June 30, 2021:

Exporters | Weighted-average dumping margin (percent)
Tianjin Hweschun Fasteners Manufacturing Co., Ltd | 0.00
Zhejiang Best Nail Industrial Co., Ltd./Shaoxing Bohui Import & Export Co., Ltd | 0.00
Tianjin Jinyifeng Hardware Co., Ltd | 0.00

Disclosure and Public Comment

We intend to disclose to interested parties the calculations performed for these preliminary results in accordance with 19 CFR 351.224(b). A timeline for the submission of case briefs and written comments will be provided to interested parties at a later date. Rebuttal briefs, limited to issues raised in case briefs, may be submitted no later than seven days after the deadline date for case briefs.¹² Pursuant to 19 CFR 351.309(c)(2) and (d)(2), parties who submit case briefs or rebuttal briefs in this review are encouraged to submit with each argument: (1) a statement of the issue; (2) a brief summary of the argument; and (3) a table of authorities. Executive summaries should be limited to five pages total, including footnotes. Case and rebuttal briefs should be filed using ACCESS ¹³ and must be served on interested parties.¹⁴ Note that Commerce has modified certain of its requirements for serving documents containing business proprietary information until further notice.¹⁵

¹² See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect.”)).

¹³ See generally 19 CFR 351.303.

¹⁴ See 19 CFR 351.303(f).

¹⁵ See Temporary Rule Modifying AD/CVD Service Requirements Due to COVID-19; Extension of Effective Period, 85 FR 41363 (July 10, 2020).

Pursuant to 19 CFR 351.310(c), interested parties who wish to request a hearing, limited to issues raised in the case and rebuttal briefs, must submit a written request to the Assistant Secretary for Enforcement and Compliance filed electronically via Commerce's electric records system, ACCESS. An electronically-filed request must be received successfully in its entirety by 5:00 p.m. Eastern Time within 30 days after the date of publication of this notice.¹⁶ Requests should contain (1) the party's name, address, and telephone number; (2) the number of participants; (3) whether any participant is a foreign national; and (4) a list of the issues to be discussed. If a request for a hearing is made, Commerce intends to hold the hearing at a time and date to be determined.¹⁷ Parties should confirm by telephone the date and time of the hearing two days before the scheduled date.

¹⁶ See 19 CFR 351.310(c)

¹⁷ See 19 CFR 351.310(d).

Unless otherwise extended, we intend to issue the final results of this administrative review, which will include the results of our analysis of the issues raised in the case briefs, within 120 days of publication of these preliminary results in the Federal Register, pursuant to section 751(a)(3)(A) of the Act and 19 CFR 351.213(h).

Verification

As provided in section 782(i)(3) of the Act, Commerce intends to verify the information relied upon for its final results.

Assessment Rates

Upon issuance of the final results, Commerce will determine, and CBP shall assess, antidumping duties on all appropriate entries covered by this review, in accordance with 19 CFR 351.212(b). If a mandatory respondent's ad valorem weighted-average dumping margin is not zero or de minimis (i.e., less than 0.50 percent) in the final results of this review, Commerce will calculate importer-specific assessment rates for that respondent, in accordance with 19 CFR 351.212(b)(1).¹⁸ Pursuant to 19 CFR 351.212(b)(1), where the respondent reported the entered value of its U.S. sales, we will calculate importer-specific ad valorem duty assessment rates based on the ratio of the total amount of dumping calculated for the examined sales to the total entered value of the sales for which entered value was reported. Where the respondent did not report entered value, we will calculate importer-specific per-unit duty assessment rates based on the ratio of the total amount of antidumping duties calculated for the examined sales to the total quantity of those sales. To determine whether an importer-specific, per-unit assessment rate is de minimis, in accordance with 19 CFR 351.106(c)(2), we also will calculate an importer-specific ad valorem ratio based on estimated entered values.

¹⁸ In these preliminary results, Commerce applied the assessment rate calculation method adopted in Antidumping Proceedings: Calculation of the Weighted-Average Dumping Margin and Assessment Rate in Certain Antidumping Proceedings: Final Modification, 77 FR 8101 (February 14, 2012).

If, in the final results, the mandatory respondent's weighted-average dumping margin continues to be zero or de minimis (i.e., less than 0.5 percent), Commerce will instruct CBP to liquidate the appropriate entries for that respondent without regard to antidumping duties.¹⁹ For entries that were not reported in the U.S. sales databases submitted by each mandatory respondent during this review, and for the three companies that do not qualify for a separate rate, Commerce will instruct CBP to liquidate such entries at the China-wide rate (i.e., 112.01 percent).²⁰ In addition, if we continue to find no shipments of subject merchandise for Unicorn, for which we preliminarily find no such shipments during the POR, any suspended entries of subject merchandise associated with this company will be liquidated at the China-wide rate.²¹

¹⁹ See 19 CFR 351.106(c)(2).

²⁰ The China-wide rate determined in the investigation was 122.55 percent. See Order, 85 FR at 43816. This rate was adjusted for export subsidies to determine the cash deposit rate (112.01 percent) collected for companies in the China-wide entity.

²¹ See NME AD Assessment.

For Tianjin Jinyifeng, the respondent that was not selected for individual examination in this administrative review that qualified for a separate rate, the assessment rate will be the separate rate established in the final results of this administrative review.

Commerce intends to issue appropriate assessment instructions to CBP 35 days after the publication of the final results in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this review for all shipments of the subject merchandise from China entered, or withdrawn from warehouse, for consumption on or after the publication date, as provided for by section 751(a)(2)(C) of the Act: (1) for the companies listed above that have a separate rate, the cash deposit rate will be that rate established in the final results of this review (except, if the rate is de minimis, then a cash deposit rate of zero will be required); (2) for previously investigated or reviewed Chinese and non-Chinese exporters for which a review was not requested and that received a separate rate in a prior segment of this proceeding, the cash deposit rate will continue to be the existing exporter-specific rate; (3) for all Chinese exporters of subject merchandise that have not been found to be entitled to a separate rate, the cash deposit rate will be the rate for the China-wide entity (i.e., 112.01 percent); and (4) for all non-Chinese exporters of subject merchandise that have not received their own rate, the cash deposit rate will be the rate applicable to Chinese exporter that supplied that non-Chinese exporter. These cash deposit requirements, when imposed, shall remain in effect until further notice.

Notification to Importers

This notice also serves as a preliminary reminder to importers of their responsibility under 19 CFR 351.402(f) to file a certificate regarding the reimbursement of antidumping and/or countervailing duties prior to liquidation of the relevant entries during this review period. Failure to comply with this requirement could result in Commerce's presumption that reimbursement of antidumping and/or countervailing duties occurred and the subsequent assessment of double antidumping duties.

Notification to Interested Parties

We are issuing and publishing the preliminary results of this review in accordance with sections 751(a)(l) and 777(i)(l) of the Act, and 19 CFR 351.221(b)(4).

Dated: July 29, 2022.
Lisa W. Wang,
Assistant Secretary for Enforcement and Compliance.

Appendix—List of Topics Discussed in the Preliminary Decision Memorandum

I. Summary

II. Background

III. Period of Review

IV. Scope of the Order

V. Selection of Respondents

VI. Affiliation and Collapsing

VII. Preliminary Determination of No Shipments

VIII. Discussion of the Methodology

IX. Recommendation

[FR Doc. 2022-16912 Filed 8-5-22; 8:45 am]

BILLING CODE 3510-DS-P